DEPARTMENT OF ENERGY

Federal Energy Regulatory Commission

[Docket No. RM01-5-000]

Electronic Tariff Filings; Notice of Additional eTariff Type of Filing Codes

Take notice that, effective January 3, 2017, the Chief Administrative Law Judge requires that all settlements in Parts 35, 154, 284 and 341 ¹ proceedings set for trial-type evidentiary hearing and/or settlement judge procedures before a Presiding Judge or Settlement Judge must be filed in eTariff. Filers are required to use the following list of available eTariff Type of Filing Codes (TOFC) to make these filings in eTariff.²

¹ 18 CFR parts 35, 154, 284 and 341 (2016).

² The type of filing business process categories are described in the Implementation Guide for Electronic Filing of Parts 35, 154, 284, 300, and 341 Tariff Filings (November 14, 2016), found on the Commission's Web site, http://www.ferc.gov/docs-filing/etariff/implementation-guide.pdf.

TOFC | Filing title | Filing category | Description of change
1380 | ALJ Settlement | Compliance | Settlement in a Part 35 FPA Traditional Cost of Service and Market Based Rate Program proceeding.
1390 | ALJ Settlement | Compliance | Settlement in a Part 35 FPA Market Based Rate Program proceeding.
1400 | ALJ Settlement | Compliance | Settlement in a Part 154 NGA Gas Pipelines Program proceeding.
1410 | ALJ Settlement | Compliance | Settlement in a Part 284 NGPA 311 Gas Pipelines Program proceeding.
1420 | ALJ Settlement | Compliance | Settlement in a Part 341 Oil Pipelines Program proceeding.

For more information, contact H. Keith Pierce, Office of Energy Market Regulation at (202) 502-8525 or send an email to FERCOnline@ferc.gov.

Dated: December 1, 2016.
Kimberly D. Bose,
Secretary.

[FR Doc. 2016-29623 Filed 12-9-16; 8:45 am]

BILLING CODE 6717-01-P